NUCLEAR REGULATORY COMMISSION

[Docket Nos. 50-275 and 50-323; NRC-2014-0260]

Pacific Gas and Electric Company; Diablo Canyon Power Plant, Units 1 and 2

AGENCY: Nuclear Regulatory Commission.

ACTION: License amendment application; withdrawal by applicant.

SUMMARY: The U.S. Nuclear Regulatory Commission (NRC) has granted the request of Pacific Gas and Electric Company to withdraw its application dated November 25, 2013, as supplemented by letters dated February 5 and May 28, 2015, and July 7 and October 27, 2016, for proposed amendments to Facility Operating License Nos. DPR-80 and DPR-82. The proposed amendments would have modified the facility technical specifications (TSs) to permit the use of Risk-Informed Completion Times (RICTs) in accordance with Technical Specifications Task Force (TSTF) Traveler TSTF-505, Revision 1, “Provide Risk-Informed Extended Completion Times—RITSTF [Risk-Informed TSTF] Initiative 4b.”

DATES: April 4, 2018.

ADDRESSES: Please refer to Docket ID NRC-2014-0260 when contacting the NRC about the availability of information regarding this document. You may obtain publicly-available information related to this document using any of the following methods:

• Federal Rulemaking website: Go to http://www.regulations.gov and search for Docket ID NRC-2014-0260. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Balwant K. Singal, Office of Nuclear Reactor Regulation, U.S. Nuclear Regulatory Commission, Washington DC 20555-0001; telephone: 301-415-3016, email: Balwant.Singal@nrc.gov.

SUPPLEMENTARY INFORMATION: The NRC has granted the request of Pacific Gas and Electric Company (the licensee) to withdraw its November 25, 2013, application (ADAMS Accession No. ML13330A557) for proposed amendments to Facility Operating License Nos. DPR-80 and DPR-82 for the Diablo Canyon Power Plant, Units 1 and 2, located in San Luis Obispo County, California.

The proposed amendments would have modified the Diablo Canyon Power Plant TSs to permit the use of RICTs in accordance with TSTF-505, Revision 1 (ADAMS Accession No. ML111650552). The proposed amendments would have, in part, modified selected required actions to permit excluding the completion times in accordance with a new TS-required RICT program.

The Commission has previously issued a proposed finding that the amendments involve no significant hazards consideration, published in the Federal Register on December 9, 2014 (79 FR 73111). The licensee provided supplemental information by letters dated February 5 and May 28, 2015, and July 7 and October 27, 2016 (ADAMS Accession Nos. ML15036A592, ML15148A480, ML16189A282, and ML16301A425, respectively). However, the licensee requested to withdraw the application on March 7, 2018 (ADAMS Accession No. ML18066A938).

Dated at Rockville, Maryland, this 29th day of March, 2018.
For the Nuclear Regulatory Commission.
Siva P. Lingam,
Project Manager, Plant Licensing Branch IV, Division of Operating Reactor Licensing, Office of Nuclear Reactor Regulation.

[FR Doc. 2018-06781 Filed 4-3-18; 8:45 am]

BILLING CODE 7590-01-P